FEDERAL COMMUNICATIONS COMMISSION

Federal Advisory Committee Act Notice of Public Meeting

AGENCY: Federal Communications Commission.

ACTION: Notice of public meeting extension.

SUMMARY: In accordance with the Federal Advisory Committee Act, Public Law 92-463, as amended, this notice advises interested persons that the Advisory Committee on Diversity for Communications in the Digital Age will hold its third meeting on June 14, 2004. The Federal Communications Commission has decided to postpone the original date of its third meeting, which was scheduled for May 10, 2004. The meeting will now be held at the Federal Communications Commission in Washington, DC on Monday, June 14, 2004. The Diversity Committee was established by the Federal Communications Commission to examine current opportunities and develop recommendations for policies and practices that will further enhance the ability of minorities and women to participate in telecommunications and related industries.

DATES: June 14, 2004, 2 p.m. to 5 p.m.

ADDRESSES: Federal Communications Commission, Commission Meeting Room, Room TW-C305, 445 12th St., SW., Washington, DC 20554.

FOR FURTHER INFORMATION CONTACT: Jane E. Mago, Designated Federal Officer of the Committee on Diversity, or Maureen C. McLaughlin, Alternate Designated Federal Officer of the Committee on Diversity, (202) 418-2030, e-mail Jane.Mago@fcc.gov, Maureen.Mclaughlin@fcc.gov. Press Contact, Audrey Spivak, Office of Public Affairs, (202) 418-0512, aspivak@fcc.gov.

SUPPLEMENTARY INFORMATION: The Diversity Committee was established by the Federal Communications Commission to examine current opportunities and develop recommendations for policies and practices that will further enhance the ability of minorities and women to participate in telecommunications and related industries. The Diversity Committee will prepare periodic and final reports to aid the FCC in its oversight responsibilities and its regulatory reviews in this area. In conjunction with such reports and analyses, the Diversity Committee will make recommendations to the FCC concerning the need for any guidelines, incentives, regulations or other policy approaches to promote diversity of participation in the communications sector. The Diversity Committee will also develop a description of best practices within the communications sector for promoting diversity of participation.

Agenda

The June 14, 2004, meeting will include reports from the Diversity Committee's four subcommittees regarding progress towards the final report to the Commission. The four subcommittees are: Career Advancement, which aims to (a) assess current executive training programs and other career development programs that target minorities and women in the telecom industries; (b) identify recommendations and “best practices” that would facilitate opportunities in upper level management and ownership; and (c) focus both on industry-specific measures, as well as recommendations extending across the telecom sectors; Financial Issues, which aims to (a) identify the obstacles to capital access faced by minorities and women in the telecommunications industries; (b) assess current practices regarding the access to capital; (c) develop recommendations and identify “best practices” to address these obstacles; and (d) focus both on industry-specific measures, as well as issues that extend across the telecommunications sectors; New Technologies, which aims to (a) assess what ownership and career advancement opportunities are available in new and emerging technologies (e.g., broadband, digital television, cable, satellite, low power FM) and the convergence of these technologies; and (b) develop recommendations for facilitating opportunities for minorities and women in new industries as they form; and Transactional Transparency, which aims to (a) identify what enhancements or additions are needed, and develop suggested “best practices” in order to increase the participation of minorities and women; (b) assess current practices of how potential investment opportunities in telecom industries are identified and how that information is disseminated; and (c) focus both on industry-specific measures, as well as recommendations extending across the telecom sectors.

Information concerning the activities of the Diversity Committee can be reviewed at the Committee's Web site http://www.fcc.gov/DiversityFAC. Material relevant to the June 14th meeting will be posted there.

Members of the general public may attend the meeting. The Federal Communications Commission will attempt to accommodate as many people as possible. However, admittance will be limited to the seating available. A live RealAudio feed will be available over the Internet; information on how to tune in can be found at the Commission's Web site http://www.fcc.gov.

The public may submit written comments to the Committee's Designated Federal Officer before the meeting.

Federal Communications Commission.
Marlene H. Dortch,
Secretary.

[FR Doc. 04-10463 Filed 5-5-04; 8:45 am]

BILLING CODE 6712-01-P